DEPARTMENT OF COMMERCE

International Trade Administration

Announcement of U.S. Company Recruitment for the March 11-12, 2024 Presidential Trade and Investment Mission to the Philippines

AGENCY: International Trade Administration (ITA), Department of Commerce (DOC).

ACTION: Notice.

SUMMARY: The U.S. Department of Commerce is assisting the White House in recruitment of U.S. companies to participate in a Presidential Trade and Investment Mission to the Philippines.

FOR FURTHER INFORMATION CONTACT: Elliott Brewer, Philippines Desk Officer, U.S. Department of Commerce, 1401 Constitution Avenue NW, Washington, DC 20230; telephone: 202-430-8025; email: elliott.brewer@trade.gov.

SUPPLEMENTARY INFORMATION: The United States seeks to send a Presidential Trade and Investment Mission (PTIM) to the Philippines from March 11-12, 2024. The intent to dispatch the PTIM was announced by President Joseph R. Biden, Jr. on May 1, 2023, during the visit of Philippine President Ferdinand R. Marcos, Jr. to Washington, DC. As described in the White House's fact sheet on “Investing in the Special Friendship and Alliance Between the United States and the Philippines,” the purpose of the PTIM is to enhance U.S. companies' investment in the Philippines' innovation economy, its clean energy transition and critical minerals sector, and the food security of its people. The mission will feature the highest caliber of U.S. business leaders dedicated to strengthening U.S.-Philippine trade and investment ties in these areas. Trade mission delegates will meet with Government of Philippines officials in Manila to learn more about business development incentives and to discuss regulatory reforms. These discussions will help identify policy actions that support mutually beneficial economic and commercial outcomes. Trade mission delegates will also be able to join networking events with relevant local firms and business organizations to foster business-to-business trade and investment promotion opportunities.

The U.S. Department of Commerce is assisting the White House in recruitment of U.S. companies to participate in the PTIM and welcomes statements of interest in participation in the PTIM from U.S.-headquartered companies that can help the United States and Philippines achieve the goals described above. Priority will be given to companies that are (1) willing to participate in the PTIM at the Chief Executive Officer, President, or other senior executive level, (2) conducting or developing plans to conduct business in both countries, and (3) engaged in work related to the clean energy transition, critical minerals sector, food security, or that promotes the Philippines' innovation economy, including its digital transformation, and/or greater supply chain resilience. This list of business areas is not intended to be exhaustive. Each company that is selected will be permitted to have one primary representative at the Chief Executive Officer, President, or other senior executive level join the PTIM, along with one additional supporting representative. Company representatives must be able to travel to the Philippines and to locations in the United States to attend PTIM meetings, as well as PTIM preparatory meetings. Travel and in-person activities are contingent upon the safety and health conditions in the United States and the Philippines. Should safety or health conditions not be appropriate for travel and/or in-person activities, one or more meetings may be postponed or scheduled virtually instead. It is also possible that the entire mission would be postponed or cancelled in response to changes in safety or health conditions.

No fees will be collected from trade mission delegates. Trade mission delegates and their sponsoring companies will be responsible for covering all travel, lodging, meals, and incidental expenses associated with the PTIM.

Interested companies should submit the following information to the U.S. Department of Commerce at PTIM@trade.gov by Tuesday, January 30, 2024:

• Company Name;

• Name of Chief Executive Officer or President;

• U.S. State of Incorporation;

• Corporate Headquarters;

• Principal Place of Business;

• Main Address (Street Address, City, State, and Zip Code);

• List of Subsidiary or Affiliate Offices in Asia (including in the Philippines);

• Industry Area(s);

• Main Products and Services;

• A brief (up to one page) Statement of Interest explaining:

○ Your company's goals and qualifications for the mission.

○ How your company's participation in the mission will strengthen U.S.-Philippines trade and investment ties.

○ How your company's work can support the clean energy transition, critical minerals sector, food security, or innovation economy—including efforts to advance digital transformation and/or greater supply chain resilience in the Philippines.

• Name, title, work email, phone number, and biography of your Chief Executive Officer, President, or other senior executive who would represent the company on the PTIM.

• Name, title, work email, and phone number of the main working-level point of contact that will facilitate the senior executive's participation in the mission.

• Name, title, work email, phone number, and biography of one optional accompanying staff person (if applicable).

The selection of companies for the PTIM will be evaluated on a comparative basis by: (1) the level of executive representation; (2) consistency of the applicant's goals and objectives with the stated scope of the mission; (3) suitability of the applicant's products or services to the Philippines market; and (4) the applicant's potential for developing trade and investment opportunities in the Philippines market.

Statements of interest received after January 30 will be considered only if space and scheduling constraints permit. Please direct any questions or requests for more information about the PTIM to Mr. Elliott Brewer at 202-430-8025 or elliott.brewer@trade.gov.

David Nufrio,
Deputy Director of the Office of Southeast Asia.

[FR Doc. 2024-00913 Filed 1-17-24; 8:45 am]

BILLING CODE 3510-FP-P